DEPARTMENT OF HOMELAND SECURITY

Federal Emergency Management Agency

44 CFR Part 67

[Docket No. FEMA-D-7592]

Proposed Flood Elevation Determinations

AGENCY: Federal Emergency Management Agency (FEMA), Emergency Preparedness and Response Directorate, Department of Homeland Security.

ACTION: Proposed rule.

SUMMARY: Technical information or comments are requested on the proposed Base (1% annual chance) Flood Elevations (BFEs) and proposed BFE modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, FEMA, 500 C Street, SW., Washington, DC 20472, (202) 646-2903.

SUPPLEMENTARY INFORMATION: FEMA proposes to make determinations of BFEs and modified BFEs for each community listed below, in accordance with section 110 of the Flood Disaster Protection Act of 1973, 42 U.S.C. 4104, and 44 CFR 67.4(a).

These proposed base flood and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Emergency Preparedness and Response Directorate certifies that this proposed rule is exempt from the requirements of the Regulatory Flexibility Act because proposed or modified BFEs are required by the Flood Disaster Protection Act of 1973, 42 U.S.C. 4105, and are required to establish and maintain community eligibility in the NFIP. As a result, a regulatory flexibility analysis has not been prepared.

Regulatory Classification. This proposed rule is not a significant regulatory action under the criteria of section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | #Depth in feet above ground. *Elevation in meters (MSL) ÷Elevation in feet (NAVD): Existing | #Depth in feet above ground. *Elevation in meters (MSL) ÷Elevation in feet (NAVD): Modified | Communities affected
KENTUCKY
Bullitt County
Brooks Run | At the confluence with Floyds Fork Approximately 200 feet upstream of State Route 1020 | None None | •454 •515 | Bullitt County (Unincorporated Areas), City of Fox Chase, City of Hillview, City of Pioneer Village.
Brier Creek | A ponding area extending from the confluence with Pond Creek to approximately 1,520 feet upstream of the Railroad | None | •431 | Bullitt County (Unincorporated Areas).
Bullitt Lick Creek—Mud Run | At the confluence with Salt River Approximately 565 feet upstream of Blue Lick Creek Road | None None | •447 •447 | Bullitt County (Unincorporated Areas), City of Shepherdsville.
Crooked Creek | Approximately 3.8 miles upstream of the confluence with Rolling Fork Approximately 1,100 feet upstream of East Parallel Road | None None | •430 •472 | Bullitt County (Unincorporated Areas), City of Lebanon Junction.
Floyds Fork | At the confluence of Salt River Approximately 3.3 miles upstream of State Highway 44 | •451 None | •450 •454 | Bullitt County (Unincorporated Areas), City of Hillview, City of Shepherdsville.
Floyds Fork | At the confluence with Salt River Approximately 3.3 miles upstream of State Highway 44 | •451 None | •450 •454 | Bullitt County (Unincorporated Areas), City of Shepherdsville.
Knob Creek | At the confluence with Pond Creek Approximately 2.29 miles upstream of Highway 44 | None None | •431 •456 | Bullitt County (Unincorporated Areas).
Knob Creek Tributary | At the confluence with Knob Creek Approximately 1 mile upstream from Shoffet Lane | None None | •444 •494 | Bullitt County (Unincorporated Areas).
Long Lick Creek | At the confluence with Salt River Approximately 4,100 feet upstream of Happy Hallow Road | None None | •446 •487 | Bullitt County (Unincorporated Areas).
Ohio River | At the confluence of Salt River Approximately 1.4 miles upstream of the confluence of Salt River | None None | •443 •443 | Bullitt County (Unincorporated Areas).
Pond Creek | A ponding area extending from the pump station to the confluence of Brier Creek | None | •431 | Bullitt County (Unincorporated Areas).
Salt River | At the confluence of Bullitt Lick Creek Approximately 1.1 miles upstream of the confluence of Bullitt Creek | None None | •447 •447 | Bullitt County (Unincorporated Areas).
Whittaker Run | At the confluence with Salt River Approximately 700 feet upstream of U.S. Route 31 East | None None | •461 •490 | Bullitt County (Unincorporated Areas).
Bullitt County (Unincorporated Areas)
Maps available for inspection at the Bullitt County Planning Commission, 214 Frank E. Simon Avenue, Shepherdsville, Kentucky.
Send comments to The Honorable Kenneth Rigdon, Bullitt County Judge/Executive, County Courthouse, P.O. Box 768, Shepherdsville, Kentucky 40165.
City of Fox Chase
Maps available for inspection at the Fox Chase City Hall, 4814 Fox Chase Drive, Shepherdsville, Kentucky.
Send comments to The Honorable Joe E. Laswell, Mayor of the City of Fox Chase, 4814 Fox Chase Drive, Shepherdsville, Kentucky 40161.
City of Hillview
Maps available for inspection at the Hillview City Hall, 298 Prairie Drive, Louisville, Kentucky.
Send comments to The Honorable Leemon Powell, Mayor of the City of Hillview, 298 Prairie Drive, Louisville, Kentucky 40229.
City of Lebanon Junction
Maps available for inspection at the Lebanon Junction City Hall, 271 Main Street, Lebanon Junction, Kentucky.
Send comments to The Honorable George Halk, Mayor of the City of Lebanon Junction, P.O. Box 69, Lebanon Junction, Kentucky 40150.
City of Pioneer Village
Maps available for inspection at the Pioneer Village City Hall, 4700 Summitt Drive, Louisville, Kentucky.
Send comments to The Honorable Gary Hatcher, Mayor of the City of Pioneer Village, 4700 Summitt Drive, Louisville, Kentucky 40229.
City of Shepherdsville
Maps available for inspection at the Shepherdsville City Hall, 170 Frank E. Simon Avenue, Shepherdsville, Kentucky.
Send comments to The Honorable Joseph Sohm, Mayor of the City of Shepherdsville, P.O. Box 400, Shepherdsville, Kentucky 40165.
MINNESOTA
City of Minneapolis (Hennepin County)
Mississippi River | Approximately 2,100 feet downstream of confluence of Minnehaha Creek Downstream of Lock and Dam No. 1 | None *717 | *714 *716 | City of Minneapolis.
Minnehaha Creek | At confluence with Mississippi River Approximately 2,450 feet upstream of confluence with the Mississippi River | *717 *717 | *715 *715 | City of Minneapolis.
City of Minneapolis
Maps available for inspection at the Minneapolis City Hall, Public Works Office, 350 South Fifth Street, Minneapolis, Minnesota.
Send comments to the Honorable R. T. Rybak, Mayor of the City of Minneapolis, 350 South Fifth Street, Room 331, Minneapolis, Minnesota 55415.
PUERTO RICO
Commonwealth and Municipalities
Rio Guamani | Approximately 100 meters above the mouth of Caribbean Sea Approximately 0.60 kilometers upstream of Puerto Rico Route 10 | *3.0 None | *3.2 *154.4 | Commonwealth of Puerto Rico.
Rio de Bayamon | Approximately 100 meters downstream of Puerto Rico Route 2 Approximately 9.5 kilometers upstream of Puerto Rico Route 174 | *10.8 None | *10.7 *250.6 | Commonwealth of Puerto Rico, Municipality of Bayamon.
Rio de La Plata (Toa Baja) | Approximately 0.1 kilometer above the confluence with Atlantic Ocean Approximately 0.1 kilometer downstream of Puerto Rico Route 2 | *2.6 *11.5 | *3.3 *13.1 | Commonwealth of Puerto Rico.
Rio Nigua | Approximately 400 meters upstream of mouth of Rio Nigua Approximately 2.70 kilometers upstream of Puerto Rico Route 52 | *3.4 *48.2 | *3.2 *49.5 | Commonwealth of Puerto Rico.
Rio Coamo | Approximately 2.16 kilometers downstream of Puerto Rico Route 1 Approximately 2.15 kilometers upstream of Puerto Rico Route 1 | *2.9 None | *3.0 *20.1 | Commonwealth of Puerto Rico.
Rio de La Plata (Toa Alta) | Approximately 0.1 kilometer downstream of Puerto Rico Route 2 Approximately 0.3 kilometer upstream of Puerto Rico Route 824 | *11.5 None | *13.1 *22.0 | Commonwealth of Puerto Rico.
Rio de La Plata: Overflow | Approximately 0.79 kilometer downstream of the road to Military Reservation Approximately 0.45 kilometer upstream of Puerto Rico Route 854 | *2.2 *7.1 | *2.3 *6.7 | Commonwealth of Puerto Rico.
Rio Grande | At the confluence with Espiritu Santo River At the Puerto Rico Route 3 | *2.8 *3.5 | *5.0 *6.9 | Commonwealth of Puerto Rico.
Commonwealth of Puerto Rico
Maps available for inspection at the Puerto Rico Planning Board, Minilas Government Center, North Building, East Diego Avenue, Stop 22, San Juan, Puerto Rico.
Send comments to Mr. Angel D. Rodriguez, Chairperson of the Puerto Rico Planning Board, P.O. Box 41119, San Juan, Puerto Rico 00940-1119.
Municipality of Bayamon
Maps available for inspection at Carretera #2, Alcaldia de Bayamon, 4to piso Oficina de Ordenacion Territorial, Bayamon, Puerto Rico.
Send comments to The Honorable Ramon Luis Rivera, Mayor of the Municipality of Bayamon, Carretera #2, Alcaldia de Bayamon, Bayamon, Puerto Rico 00731.
NORTH CAROLINA
Durham County (Unincorporated Areas)
The proposed, proposed modified Base (1% annual chance) Flood Elevations (BFEs), and the location of the local map repository for the unincorporated areas of Durham County have been provided on FEMA's Flood Hazard Mapping Web site at http://www.fema.gov/fhm/st_hot.sht. Contact the FEMA Map Assistance Center toll free at 1-877-FEMA Map (877-336-2627) for further information or a copy of the BFEs.
NORTH CAROLINA
City of Durham, Durham County
The proposed, proposed modified Base (1% annual chance) Flood Elevations (BFEs), and the location of the local map repository for the City of Durham have been provided on FEMA's Flood Hazard Mapping Web site at http://www.fema.gov/fhm/st_hot.sht. Contact the FEMA Map Assistance Center toll free at 1-877-FEMA Map (877-336-2627) for further information or a copy of the BFEs.

(Catalog of Federal Domestic Assistance No. 83.100, “Flood Insurance.”)
Dated: May 26, 2004.
Anthony S. Lowe,
Mitigation Division Director, Emergency Preparedness and Response Directorate.

[FR Doc. 04-12371 Filed 6-1-04; 8:45 am]

BILLING CODE 9110-12-P